DEPARTMENT OF THE INTERIOR

Fish and Wildlife Service

Change in Regional Partners for Southeast Alaska and the Kodiak Archipelago for the Alaska Migratory Bird Co-Management Council

AGENCY: Fish and Wildlife Service, Interior.

ACTION: Notice.

SUMMARY: The U.S. Fish and Wildlife Service (Service) is announcing a change in two regional partners, one representing Southeast Alaska and the other one representing the Kodiak Archipelago, both on the Alaska Migratory Bird Co-management Council (Co-management Council). For Southeast Alaska, the Central Council, Tlingit and Haida Indian Tribes of Alaska (Central Council), has elected to step down, and the Co-management Council has voted to replace that partner with the Southeast Alaska Inter-Tribal Fish and Wildlife Commission. For Kodiak, the Kodiak Area Native Association has elected to step down, and the Co-Management Council has voted to replace that partner with the Shoonaq' Tribe of Kodiak.

DATES: The decision described in this notice became effective December 2, 2005.

ADDRESSES: Regional Director, Alaska Region, U.S. Fish and Wildlife Service, 1011 E. Tudor Road, Anchorage, AK 99503, or fax to (907) 786-3306 or e-mail to ambcc@fws.gov.

FOR FURTHER INFORMATION CONTACT: Fred Armstrong, (907) 786-3887, or Donna Dewhurst, (907) 786-3499, U.S. Fish and Wildlife Service, 1011 E. Tudor Road, Mail Stop 201, Anchorage, AK 99503.

SUPPLEMENTARY INFORMATION: The Fish and Wildlife Service regulates the subsistence take of migratory birds in Alaska through regulations in 50 CFR part 92. The Service published a notice of decision in the Federal Register on March 28, 2000, (65 FR 16405) that established regional management bodies in Alaska to develop recommendations related to subsistence harvest. The notice of decision also established a single statewide management body consisting of representatives from each of the regions and one representative each from the U.S. Fish and Wildlife Service and the Alaska Department of Fish and Game. Membership on the 11 regional bodies comprises subsistence users from each of the active regions. The Service contracted with 11 partner organizations to organize and support the regional bodies.

Since 2000, the Co-management Council partner organization representing Southeast Alaska has been the Central Council. However, the Central Council notified the Service, by letter dated September 16, 2005, of its request to cease the present regional partnership with the Co-management Council, and recommended that the Southeast Alaska Inter-Tribal Fish and Wildlife Commission could potentially be a good replacement. The Co-management Council met in Anchorage on September 29, 2005, and unanimously selected the Southeast Alaska Inter-Tribal Fish and Wildlife Commission as the new regional partner to represent Southeast Alaska.

Since 2000, the Co-management Council partner organization representing the Kodiak Archipelago has been the Kodiak Area Native Association. However, the Kodiak Area Native Association notified the Service, by letter dated November 3, 2005, of its request to cease the present regional partnership with the Co-management Council, and recommended that the Shoonaq' Tribe of Kodiak could potentially be a good replacement. The Co-management Council voted by polling on November 21, 2005, and selected the Shoonaq' Tribe of Alaska as the new regional partner to represent Kodiak, Alaska.

These two new Co-management Council partner organizations will ensure continuity of communication with the subsistence users of their regions to establish and maintain local representation on their regional management bodies. Partners are also responsible for coordinating meetings within their regions, soliciting proposals and keeping the villages informed.

Dated: December 2, 2005.
Rowan Gould,
Regional Director, Anchorage, Alaska.

[FR Doc. E5-7969 Filed 12-27-05; 8:45 am]

BILLING CODE 4310-55-P